POSTAL SERVICE

Transfer of Post Office Box Service in Selected Locations to the Competitive Product List

AGENCY: Postal Service™.

ACTION: Notice.

SUMMARY: The Postal Service hereby provides notice that 291 locations providing Post Office Box service will be reassigned from their market-dominant fee groups to competitive fee groups.

DATES: Applicable date: January 22, 2023.

FOR FURTHER INFORMATION CONTACT: For additional information, please contact: Joshua Crawford at (207) 694-9309.

SUPPLEMENTARY INFORMATION: Locations providing Post Office Box service are classified as competitive or market dominant and assigned to fee groups based upon the Post Office location and other criteria. Competitive fee groups provide more services than market dominant ones and have somewhat higher fees. Competitive Post Office Box service includes several enhancements such as: electronic notification of the receipt of mail, use of an alternate street address format, signature on file for delivery of certain accountable mail, and additional hours of access and/or earlier availability of mail in some locations.

On July 21, 2022, the Postal Regulatory Commission issued Order No. 6234, approving the Postal Service's request to expand the Postal Regulatory Commission's previous five-mile criterion for assessing competitiveness by an additional three miles, extending the mileage range from five miles to eight miles.¹ The transfer originally covered 297 Post Office Box service locations, each of which was listed in the Postal Service's original Request.² The Postal Service likewise provided notice of its intent to transfer these 297 locations in the Federal Register at the time of the Request.³

¹ Docket No. MC2022-46, Order Approving Request to Transfer Additional Post Office Box Service Locations to the Competitive Product List, July 21, 2022 (Order No. 6234).

² Docket No. MC2022-46, Request of the United States Postal Service to Transfer Post Office Box Service in Selected Locations to the Competitive Product List, March 16, 2022 (Request).

³ See 87 FR 16255-16261 (March 22, 2022).

The Postal Service hereby provides further notice that Post Office Box service for locations within eight miles of a competitor will be reassigned from market dominant fee groups to competitive fee groups effective January 22, 2023.

This notice also updates the Request list to exclude 6 locations from the originally proposed list of 297 which, upon further review, were found to have limited or no public access. There are no other changes to the original list. The remaining 291 locations are the same and are still properly classified as competitive based on their proximity to a private sector competitor within eight miles.

Documents pertinent to this request are available at http://www.prc.gov, Docket No. MC2022-46. Communications are being sent to the identified Postmasters of the locations; and PO Box customers in the identified 291 Post Office locations will receive an email and/or letter notifying them that their PO Boxes are now competitive locations and include the additional services. Additional internal and external communications will be sent as well. A list of affected locations, with the associated ZIP Codes, is provided in the Appendix to this notice.

Sarah Sullivan,
Attorney, Ethics & Legal Compliance.

Appendix

Transfer of Additional Post Office Box Locations to Competitive Fee Group—ZIP Code Listing

The following is a revised list of the locations the Postal Service intends to transfer based on the eight-mile criterion established in Order No. 6234. The list is sorted by ZIP Code in ascending numerical order with geographical breaks and headers. As indicated by the column headings, this list provides the ZIP Code of the affected PO Boxes (ZIP), the office name of the location (OFFICE NAME), the city where the PO Boxes are located (CITY), the current market dominant fee group (CFG), and the new competitive fee group (NFG). Please note that there are more ZIP Codes than locations covered by the request, because some locations serve more than one ZIP Code. These locations can be identified whenever multiple ZIP Codes are listed for a single office name.

ZIP | Facilities name | City | St | CFG | NFG
ALABAMA
36064 | PIKE ROAD | PIKE ROAD | AL | 5 | 35
35903 | EAST GADSDEN | GADSDEN | AL | 4 | 34
36350 | MIDLAND CITY | MIDLAND CITY | AL | 5 | 35
35954 | ATTALLA |  | AL | 3 | 33
35645 | KILLEN | KILLEN | AL | 5 | 35
36877 | SMITHS STATION | SMITHS STATION | AL | 5 | 35
35661 | MUSCLE SHOALS | MUSCLE SHOALS | AL | 4 | 34
36549 | LILLIAN | LILLIAN | AL | 4 | 34
35660 | SHEFFIELD | SHEFFIELD | AL | 4 | 34
35673 | TRINITY | TRINITY | AL | 5 | 35
ARKANSAS
72718 | CAVE SPRINGS | CAVE SPRINGS | AR | 5 | 35
72858 | POTTSVILLE | POTTSVILLE | AR | 6 | 36
72053 | COLLEGE STATION | COLLEGE STATION | AR | 5 | 35
ARIZONA
86325 | CORNVILLE | CORNVILLE | AZ | 5 | 35
86351 | SEDONA VILLAGE OF OAK CREEK | SEDONA | AZ | 5 | 35
85616 | HUACHUCA CITY | HUACHUCA CITY | AZ | 5 | 35
CALIFORNIA
93223 | FARMERSVILLE | FARMERSVILLE | CA | 3 | 33
93601 | AHWAHNEE | AHWAHNEE | CA | 5 | 35
95693 | WILTON | WILTON | CA | 4 | 34
93227 | GOSHEN | GOSHEN | CA | 5 | 35
94037 | MONTARA | MONTARA | CA | 3 | 33
93614 | COARSEGOLD | COARSEGOLD | CA | 6 | 36
94511 | BETHEL ISLAND | BETHEL ISLAND | CA | 3 | 33
93604 | BASS LAKE | BASS LAKE | CA | 5 | 35
93606 | BIOLA | BIOLA | CA | 5 | 35
93924 | CARMEL VALLEY | CARMEL VALLEY | CA | 4 | 34
95315 | DELHI | DELHI | CA | 5 | 35
95418 | CALPELLA | CALPELLA | CA | 4 | 34
95465 | OCCIDENTAL | OCCIDENTAL | CA | 4 | 34
95245 | MOKELUMNE HILL | MOKELUMNE HILL | CA | 5 | 35
94038 | MOSS BEACH | MOSS BEACH | CA | 4 | 34
95519 | MC KINLEYVILLE | MCKINLEYVILLE | CA | 1 | 31
95462 | MONTE RIO | MONTE RIO | CA | 3 | 33
95379 | TUOLUMNE | TUOLUMNE | CA | 5 | 35
96064 | MONTAGUE | MONTAGUE | CA | 5 | 35
93434 | GUADALUPE | GUADALUPE | CA | 3 | 33
95452 | KENWOOD | KENWOOD | CA | 4 | 34
COLORADO
80513 | BERTHOUD | BERTHOUD | CO | 5 | 35
81526 | PALISADE | PALISADE | CO | 5 | 35
80454 | INDIAN HILLS | INDIAN HILLS | CO | 5 | 35
80136 | STRASBURG | STRASBURG | CO | 5 | 35
80809 | CASCADE | CASCADE | CO | 3 | 33
CONNECTICUT
06238 | COVENTRY | COVENTRY | CT | 5 | 35
06798 | WOODBURY | WOODBURY | CT | 4 | 34
06088 | EAST WINDSOR | EAST WINDSOR | CT | 5 | 35
06029 | ELLINGTON | ELLINGTON | CT | 3 | 33
FLORIDA
33849 | KATHLEEN | KATHLEEN | FL | 5 | 35
32187 | SAN MATEO | SAN MATEO | FL | 5 | 35
32130 | DE LEON SPRINGS | DE LEON SPRINGS | FL | 4 | 34
33825 | AVON PARK | AVON PARK | FL | 4 | 34
33042 | SUMMERLAND KEY | SUMMERLAND KEY | FL | 5 | 35
33851 | LAKE HAMILTON | LAKE HAMILTON | FL | 5 | 35
32764 | OSTEEN | OSTEEN | FL | 4 | 34
32179 | OCKLAWAHA | OCKLAWAHA | FL | 5 | 35
32643 | HIGH SPRINGS | HIGH SPRINGS | FL | 4 | 34
32732 | GENEVA | GENEVA | FL | 7 | 37
33920 | ALVA | ALVA | FL | 4 | 34
32658 | LA CROSSE | LA CROSSE | FL | 4 | 34
33834 | BOWLING GREEN | BOWLING GREEN | FL | 4 | 34
32754 | MIMS | MIMS | FL | 3 | 33
GEORGIA
31008 | BYRON | BYRON | GA | 5 | 35
31213 | MACON | MACON | GA | 4 | 34
31326 | RINCON | RINCON | GA | 5 | 35
30436 | LYONS | LYONS | GA | 4 | 34
31333 | WALTHOURVILLE | WALTHOURVILLE | GA | 5 | 35
30813 | GROVETOWN | GROVETOWN | GA | 3 | 33
30179 | TEMPLE | TEMPLE | GA | 6 | 36
31201 | MULBERRY | MACON | GA | 4 | 34
30107 | BALL GROUND | BALL GROUND | GA | 6 | 36
30541 | EPWORTH | EPWORTH | GA | 5 | 35
30183 | WALESKA | WALESKA | GA | 6 | 36
ILLINOIS
62236 | COLUMBIA | COLUMBIA | IL | 2 | 32
60081 | SPRING GROVE | SPRING GROVE | IL | 7 | 37
61802 | URBANA | URBANA | IL | 3 | 33
62966 | MURPHYSBORO | MURPHYSBORO | IL | 4 | 34
61568 | TREMONT | TREMONT | IL | 5 | 35
62948 | HERRIN | HERRIN | IL | 4 | 34
INDIANA
47803 | ROSE | TERRE HAUTE | IN | 4 | 34
46507 | BRISTOL | BRISTOL | IN | 6 | 36
KANSAS
67052 | GODDARD | GODDARD | KS | 5 | 35
67216 | RIVER CITY | WICHITA | KS | 5 | 35
66104 | ROBERT L ROBERTS | KANSAS CITY | KS | 3 | 33
66007 | BASEHOR | BASEHOR | KS | 4 | 34
67060 | HAYSVILLE | HAYSVILLE | KS | 4 | 34
KENTUCKY
42440 | MORTONS GAP | MORTONS GAP | KY | 5 | 35
42345 | GREENVILLE | GREENVILLE | KY | 4 | 34
40067 | SIMPSONVILLE | SIMPSONVILLE | KY | 6 | 36
LOUISIANA
70075 | MERAUX | MERAUX | LA | 6 | 36
70127 | LAKE FOREST STATION | NEW ORLEANS | LA | 6 | 36
71047 | KEITHVILLE | KEITHVILLE | LA | 5 | 35
70039 | BOUTTE | BOUTTE | LA | 4 | 34
70719 | BRUSLY | BRUSLY | LA | 6 | 36
70711 | ALBANY | ALBANY | LA | 6 | 36
70462 | SPRINGFIELD | SPRINGFIELD | LA | 5 | 35
71281 | SWARTZ | SWARTZ | LA | 5 | 35
70734 | GEISMAR | GEISMAR | LA | 5 | 35
MASSACHUSETTS
02720 | HIGHLAND | FALL RIVER | MA | 1 | 31
01519 | GRAFTON | GRAFTON | MA | 4 | 34
01516 | DOUGLAS | DOUGLAS | MA | 4 | 34
02768 | RAYNHAM CENTER | RAYNHAM CENTER | MA | 5 | 35
01541 | PRINCETON | PRINCETON | MA | 4 | 34
01085 | WESTFIELD | WESTFIELD | MA | 4 | 34
02653 | ORLEANS | ORLEANS | MA | 5 | 35
02333 | EAST BRIDGEWATER | EAST BRIDGEWATER | MA | 1 | 31
01056 | LUDLOW | LUDLOW | MA | 3 | 33
01543 | RUTLAND | RUTLAND | MA | 4 | 34
MARYLAND
20688 | SOLOMONS | SOLOMONS | MD | 4 | 34
21921 | ELKTON | ELKTON | MD | 3 | 33
21811 | BERLIN | BERLIN | MD | 3 | 33
20650 | LEONARDTOWN | LEONARDTOWN | MD | 4 | 34
20711 | LOTHIAN | LOTHIAN | MD | 5 | 35
MAINE
04963 | OAKLAND | OAKLAND | ME | 2 | 32
04090 | WELLS | WELLS | ME | 5 | 35
04858 | SOUTH THOMASTON | SOUTH THOMASTON | ME | 3 | 33
04694 | BAILEYVILLE | BAILEYVILLE | ME | 4 | 34
MICHIGAN
48601 | CUMBERLAND | SAGINAW | MI | 3 | 33
48139 | HAMBURG | HAMBURG | MI | 7 | 37
48174 | ROMULUS | ROMULUS | MI | 3 | 33
49071 | MATTAWAN | MATTAWAN | MI | 7 | 37
MISSOURI
65740 | ROCKAWAY BEACH | ROCKAWAY BEACH | MO | 6 | 36
65441 | BOURBON | BOURBON | MO | 6 | 36
63825 | BLOOMFIELD | BLOOMFIELD | MO | 7 | 37
MISSISSIPPI
38826 | BELDEN | BELDEN | MS | 5 | 35
39272 | BYRAM | BYRAM | MS | 4 | 34
39212 | CANDLESTICK PARK | JACKSON | MS | 4 | 34
38862 | PLANTERSVILLE | PLANTERSVILLE | MS | 5 | 35
39209 | WESTLAND | JACKSON | MS | 4 | 34
38879 | VERONA | VERONA | MS | 6 | 36
MONTANA
59828 | CORVALLIS | CORVALLIS | MT | 5 | 35
NORTH CAROLINA
27358 | SUMMERFIELD | SUMMERFIELD | NC | 6 | 36
27505 | BROADWAY | BROADWAY | NC | 5 | 35
28715 | CANDLER | CANDLER | NC | 5 | 35
28723 | CULLOWHEE | CULLOWHEE | NC | 5 | 35
27593 | WILSONS MILLS | WILSONS MILLS | NC | 4 | 34
28355 | LEMON SPRINGS | LEMON SPRINGS | NC | 5 | 35
27807 | BAILEY | BAILEY | NC | 5 | 35
27299 | LINWOOD | LINWOOD | NC | 5 | 35
27921 | CAMDEN | CAMDEN | NC | 4 | 34
28749 | LITTLE SWITZERLAND | LITTLE SWITZERLAND | NC | 4 | 34
28638 | HUDSON | HUDSON | NC | 2 | 32
28630 | GRANITE FALLS | GRANITE FALLS | NC | 3 | 33
28766 | PENROSE | PENROSE | NC | 5 | 35
27568 | PINE LEVEL | PINE LEVEL | NC | 5 | 35
28787 | WEAVERVILLE | WEAVERVILLE | NC | 4 | 34
27243 | EFLAND | EFLAND | NC | 5 | 35
28716 | CANTON | CANTON | NC | 2 | 32
28666 | ICARD | ICARD | NC | 5 | 35
27868 | RED OAK | RED OAK | NC | 4 | 34
28371 | PARKTON | PARKTON | NC | 6 | 36
27043 | PINNACLE | PINNACLE | NC | 6 | 36
28748 | LEICESTER | LEICESTER | NC | 5 | 35
27370 | TRINITY | TRINITY | NC | 5 | 35
28730 | FAIRVIEW | FAIRVIEW | NC | 5 | 35
27263 | ARCHDALE | ARCHDALE | NC | 4 | 34
28618 | DEEP GAP | DEEP GAP | NC | 5 | 35
28368 | OLIVIA | OLIVIA | NC | 5 | 35
28463 | TABOR CITY | TABOR CITY | NC | 3 | 33
28443 | HAMPSTEAD | HAMPSTEAD | NC | 5 | 35
NEBRASKA
68731 | DAKOTA CITY | DAKOTA CITY | NE | 5 | 35
68028 | GRETNA | GRETNA | NE | 4 | 34
NEW HAMPSHIRE
03755 | HANOVER | HANOVER | NH | 3 | 33
03226 | CENTER HARBOR | CENTER HARBOR | NH | 5 | 35
03469 | WEST SWANZEY | WEST SWANZEY | NH | 5 | 35
03033 | BROOKLINE | BROOKLINE | NH | 4 | 34
NEW JERSEY
08733 | LAKEHURST | LAKEHURST | NJ | 3 | 33
NEW MEXICO
87060 | TOME | TOME | NM | 5 | 35
87311 | CHURCH ROCK | CHURCH ROCK | NM | 4 | 34
87059 | TIJERAS | TIJERAS | NM | 6 | 36
NEVADA
89439 | VERDI | VERDI | NV | 3 | 33
NEW YORK
14738 | FREWSBURG | FREWSBURG | NY | 5 | 35
12962 | MORRISONVILLE | MORRISONVILLE | NY | 5 | 35
11947 | JAMESPORT | JAMESPORT | NY | 4 | 34
12571 | RED HOOK | RED HOOK | NY | 1 | 31
13607 | ALEXANDRIA BAY | ALEXANDRIA BAY | NY | 3 | 33
10969 | PINE ISLAND | PINE ISLAND | NY | 5 | 35
11940 | EAST MORICHES | EAST MORICHES | NY | 4 | 34
11949 | MANORVILLE | MANORVILLE | NY | 4 | 34
12414 | CATSKILL | CATSKILL | NY | 3 | 33
11948 | LAUREL | LAUREL | NY | 4 | 34
12491 | WEST HURLEY | WEST HURLEY | NY | 4 | 34
13029 | BREWERTON | BREWERTON | NY | 4 | 34
11959 | QUOGUE | QUOGUE | NY | 4 | 34
OHIO
44119 | BEACHLAND | CLEVELAND | OH | 2 | 32
43606 | KENWOOD | TOLEDO | OH | 3 | 33
44266 | RAVENNA | RAVENNA | OH | 4 | 34
43023 | GRANVILLE | GRANVILLE | OH | 4 | 34
45122 | GOSHEN | GOSHEN | OH | 5 | 35
45050 | MONROE | MONROE | OH | 3 | 33
44028 | COLUMBIA STATION | COLUMBIA STATION | OH | 5 | 35
45387 | YELLOW SPRINGS | YELLOW SPRINGS | OH | 3 | 33
OKLAHOMA
73066 | NICOMA PARK | NICOMA PARK | OK | 5 | 35
74039 | KELLYVILLE | KELLYVILLE | OK | 6 | 36
74033 | GLENPOOL | GLENPOOL | OK | 7 | 37
73443 | LONE GROVE | LONE GROVE | OK | 5 | 35
74021 | COLLINSVILLE | COLLINSVILLE | OK | 3 | 33
73065 | NEWCASTLE | NEWCASTLE | OK | 5 | 35
OREGON
97362 | MOUNT ANGEL | MOUNT ANGEL | OR | 5 | 35
97305 | BROOKS | SALEM | OR | 4 | 34
97044 | ODELL | ODELL | OR | 4 | 34
97368 | OTIS | OTIS | OR | 4 | 34
PENNSYLVANIA
19374 | TOUGHKENAMON | TOUGHKENAMON | PA | 4 | 34
18917 | DUBLIN | DUBLIN | PA | 5 | 35
19518 | DOUGLASSVILLE | DOUGLASSVILLE | PA | 4 | 34
17038 | JONESTOWN | JONESTOWN | PA | 5 | 35
18428 | HAWLEY | HAWLEY | PA | 3 | 33
18321 | BARTONSVILLE | BARTONSVILLE | PA | 5 | 35
18337 | MILFORD | MILFORD | PA | 3 | 33
19311 | AVONDALE | AVONDALE | PA | 5 | 35
17550 | MAYTOWN | MAYTOWN | PA | 5 | 35
19501 | ADAMSTOWN | ADAMSTOWN | PA | 5 | 35
18328 | DINGMANS FERRY | DINGMANS FERRY | PA | 5 | 35
PUERTO RICO
00720 | OROCOVIS | OROCOVIS | PR | 2 | 32
RHODE ISLAND
02871 | PORTSMOUTH | PORTSMOUTH | RI | 3 | 33
02837 | LITTLE COMPTON | LITTLE COMPTON | RI | 3 | 33
SOUTH CAROLINA
29816 | BATH | BATH | SC | 5 | 35
29673 | PIEDMONT | PIEDMONT | SC | 4 | 34
29439 | FOLLY BEACH | FOLLY BEACH | SC | 4 | 34
29677 | SANDY SPRINGS | SANDY SPRINGS | SC | 6 | 36
29040 | DALZELL | DALZELL | SC | 5 | 35
29016 | BLYTHEWOOD | BLYTHEWOOD | SC | 4 | 34
29809 | NEW ELLENTON | NEW ELLENTON | SC | 4 | 34
29851 | WARRENVILLE | WARRENVILLE | SC | 5 | 35
29349 | INMAN | INMAN | SC | 4 | 34
29669 | PELZER | PELZER | SC | 4 | 34
29829 | GRANITEVILLE | GRANITEVILLE | SC | 2 | 32
SOUTH DAKOTA
57064 | TEA | TEA | SD | 6 | 36
57718 | BLACK HAWK | BLACK HAWK | SD | 5 | 36
TENNESSEE
37341 | HARRISON | HARRISON | TN | 5 | 35
37865 | SEYMOUR | SEYMOUR | TN | 5 | 35
37658 | HAMPTON | HAMPTON | TN | 6 | 36
37329 | ENGLEWOOD | ENGLEWOOD | TN | 6 | 36
37330 | ESTILL SPRINGS | ESTILL SPRINGS | TN | 6 | 36
37826 | NIOTA | NIOTA | TN | 6 | 36
37877 | TALBOTT | TALBOTT | TN | 6 | 36
37764 | KODAK | KODAK | TN | 5 | 35
TEXAS
77484 | WALLER | WALLER | TX | 6 | 36
75076 | POTTSBORO | POTTSBORO | TX | 6 | 36
75791 | WHITEHOUSE | WHITEHOUSE | TX | 6 | 36
77639 | ORANGEFIELD | ORANGEFIELD | TX | 6 | 36
77445 | HEMPSTEAD | HEMPSTEAD | TX | 5 | 35
75158 | SCURRY | SCURRY | TX | 5 | 35
76061 | LILLIAN | LILLIAN | TX | 4 | 34
78147 | POTH | POTH | TX | 7 | 37
78123 | MC QUEENEY | MC QUEENEY | TX | 5 | 35
76058 | JOSHUA | JOSHUA | TX | 3 | 33
77447 | HOCKLEY | HOCKLEY | TX | 6 | 36
78559 | LA FERIA | LA FERIA | TX | 5 | 35
77640 | PORT ARTHUR | PORT ARTHUR | TX | 5 | 35
78583 | RIO HONDO | RIO HONDO | TX | 6 | 36
75688 | SCOTTSVILLE | SCOTTSVILLE | TX | 6 | 36
77590 | TEXAS CITY | TEXAS CITY | TX | 6 | 36
78362 | INGLESIDE | INGLESIDE | TX | 5 | 35
77611 | BRIDGE CITY | BRIDGE CITY | TX | 4 | 34
UTAH
84655 | SANTAQUIN | SANTAQUIN | UT | 5 | 35
VIRGINIA
23805 | WALNUT HILL | PETERSBURG | VA | 5 | 35
22060 | FORT BELVOIR | FORT BELVOIR | VA | 2 | 32
23234 | AMPTHILL | NORTH CHESTERFIELD | VA | 5 | 35
23062 | GLOUCESTER POINT | GLOUCESTER POINT | VA | 5 | 35
23075 | HIGHLAND SPRINGS | HENRICO | VA | 4 | 34
22963 | PALMYRA | PALMYRA | VA | 5 | 35
24330 | FRIES | FRIES | VA | 5 | 35
24064 | BLUE RIDGE | BLUE RIDGE | VA | 5 | 35
22655 | STEPHENS CITY | STEPHENS CITY | VA | 4 | 34
22821 | DAYTON | DAYTON | VA | 5 | 35
22947 | KESWICK | KESWICK | VA | 4 | 34
24482 | VERONA | VERONA | VA | 5 | 35
22945 | IVY | IVY | VA | 5 | 35
24574 | MONROE | MONROE | VA | 5 | 35
22642 | LINDEN | LINDEN | VA | 4 | 34
23005 | ASHLAND | ASHLAND | VA | 3 | 33
22553 | SPOTSYLVANIA | SPOTSYLVANIA | VA | 5 | 35
23875 | PRINCE GEORGE | PRINCE GEORGE | VA | 7 | 37
VERMONT
05829 | DERBY | DERBY | VT | 5 | 35
05059 | QUECHEE | QUECHEE | VT | 3 | 33
05055 | NORWICH | NORWICH | VT | 4 | 34
WASHINGTON
98546 | GRAPEVIEW | GRAPEVIEW | WA | 4 | 34
98384 | SOUTH COLBY | SOUTH COLBY | WA | 3 | 33
98239 | COUPEVILLE | COUPEVILLE | WA | 4 | 34
98840 | OKANOGAN | OKANOGAN | WA | 4 | 34
99005 | COLBERT | COLBERT | WA | 4 | 34
WISCONSIN
53157 | PELL LAKE | PELL LAKE | WI | 5 | 35
53191 | WILLIAMS BAY | WILLIAMS BAY | WI | 5 | 35
54650 | ONALASKA | ONALASKA | WI | 4 | 34
WEST VIRGINIA
25526 | HURRICANE | HURRICANE | WV | 4 | 34
26301 | DOWNTOWN CLARKSBURG | CLARKSBURG | WV | 4 | 34
25313 | CROSS LANES | CHARLESTON | WV | 4 | 34
25177 | SAINT ALBANS | SAINT ALBANS | WV | 4 | 34
25143 | NITRO | NITRO | WV | 4 | 34
25547 | PECKS MILL | PECKS MILL | WV | 5 | 35
25535 | LAVALETTE | LAVALETTE | WV | 5 | 35
25427 | HEDGESVILLE | HEDGESVILLE | WV | 4 | 34

[FR Doc. 2022-26752 Filed 12-8-22; 8:45 am]

BILLING CODE 7710-12-P